DEPARTMENT OF COMMERCE

International Trade Administration

[A-570-894]

Certain Tissue Paper Products From the People's Republic of China: Extension of Time Limit for Preliminary Results of 2007-2008 Administrative Review

AGENCY: Import Administration, International Trade Administration, Department of Commerce.

EFFECTIVE DATE: November 20, 2008.

FOR FURTHER INFORMATION CONTACT: Brian Smith or Gemal Brangman, AD/CVD Operations, Office 2, Import Administration, International Trade Administration, U.S. Department of Commerce, 14th Street and Constitution Avenue, NW, Washington, DC 20230; telephone (202) 482-1766 or (202) 482-3773, respectively.

Background

On April 25, 2008, the Department of Commerce (“the Department”) published in the Federal Register a notice of initiation of administrative review of the antidumping duty order on certain tissue products from the People's Republic of China (“PRC”), covering the period March 1, 2007, through February 29, 2008. See Initiation of Antidumping and Countervailing Duty Administrative Reviews and Request for Revocation in Part, 73 FR 22337 (April 25, 2008). The preliminary results for this administrative review are currently due no later than December 1, 2008.

Extension of Time Limits for Preliminary Results

Section 751(a)(3)(A) of the Tariff Act of 1930, as amended (“the Act”), requires the Department to issue the preliminary results of an administrative review within 245 days after the last day of the anniversary month of the date of publication of an order for which a review is requested. If it is not practicable to complete the review within this time period, section 751(a)(3)(A) of the Act allows the Department to extend this deadline to a maximum of 365 days.

In this review, the respondents, Max Fortune Industrial Limited and Max Fortune (FETDE) Paper Products Co., Ltd. (collectively referred to as “Max Fortune”), requested that the Department revoke the antidumping duty order on certain tissue paper products from the PRC with respect to them pursuant to 19 CFR 351.222(b). The Department requires additional time to review and analyze the revocation request and the factors of production information submitted by Max Fortune in this administrative review and, if necessary, issue an additional supplemental questionnaire. The Department also requires additional time to conduct verification of Max Fortune's questionnaire responses. Thus, it is not practicable to complete this review within the original time limit. Therefore, the Department is fully extending the time limit for completion of the preliminary results by 120 days to 365 days, in accordance with section 751(a)(3)(A) of the Act. The preliminary results are now due no later than March 31, 2009. The final results continue to be due 120 days after publication of the preliminary results.

We are issuing and publishing this notice in accordance with section 751(a)(3)(A) of the Act and 19 CFR 351.213(h)(2).

Dated: November 14, 2008.
Stephen J. Claeys,
Deputy Assistant Secretary for Import Administration.

[FR Doc. E8-27623 Filed 11-19-08; 8:45 am]

BILLING CODE 3510-DS-S